COMMISSION ON CIVIL RIGHTS

Agenda and Notice of Public Meeting of the Delaware Advisory Committee

Notice is hereby given, pursuant to the provisions of the rules and regulations of the U.S. Commission on Civil Rights, that a meeting of the Delaware Advisory Committee to the Commission will convene at 11:30 a.m. and adjourn at 3:30 p.m. on February 27, 2001, at the Metropolitan Wilmington Urban League, 100 W. 10th Street, Wilmington, Delaware 19801. The purpose of the meeting is to (1) make plans to hold a press conference to release the Committee's report, Delaware Citizens Guide to Civil Rights and Supporting Services, (2) hear from invited speakers on civil rights issues affecting the State; and (3) discuss new project proposals.

Persons desiring additional information, or planning a presentation to the Committee, should contact Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, January 29, 2001.
Edward A. Hailes, Jr.,
General Counsel.

[FR Doc. 01-2986 Filed 2-5-01; 8:45 am]

BILLING CODE 6335-01-P